U.S.-CHINA ECONOMIC AND SECURITY REVIEW COMMISSION

Notice of Open Meetings to Prepare the 2014 Annual Report to Congress; Advisory Committee: U.S.-China Economic and Security Review Commission; Correction

AGENCY: U.S.-China Economic and Security Review Commission.

ACTION: Notice; correction.

SUMMARY: The U.S.-China Commission published a document in the Federal Register on July 07, 2014, concerning notice of open meetings to be held in Washington, DC to review and edit drafts of the 2014 Annual Report to Congress. The document contained an incorrect meeting room location.

FOR FURTHER INFORMATION CONTACT: Reed Eckhold, 202-624-1496

Correction

In the Federal Register of July 07, 2014, in FR Doc. 2014-15732 on page 38362, in the second column, correct the “Dates, Times, and Room Locations” caption to read:

Dates, Times, And Room Locations (Eastern Daylight Time):

• Monday and Tuesday, July 14-15, 2014 (9:00 a.m. to 5:00 p.m.)—Room 231 and 333

• Monday and Tuesday, August 18-19, 2014 (9:00 a.m. to 5:00 p.m.)—Room 231

• Monday and Tuesday, September 22- 23, 2014 (9:00 a.m. to 5:00 p.m.)— Room 231

• Monday and Tuesday, October 06-07, 2014 (9:00 a.m. to 5:00 p.m.)—Room 383

Dated: July 9, 2014.
Michael Danis,
Executive Director, U.S.-China Economic and Security Review Commission.

[FR Doc. 2014-16459 Filed 7-14-14; 8:45 am]

BILLING CODE 1137-00-P